DEPARTMENT OF TRANSPORTATION

Federal Aviation Administration

Aviation Rulemaking Advisory Committee; Transport Airplane and Engine Issue Area—Phase 2 of Low Speed Alerting Task

AGENCY: Federal Aviation Administration (FAA), DOT.

ACTION: Notice of new task assignment for the Aviation Rulemaking Advisory Committee (ARAC).

SUMMARY: The FAA assigned the Aviation Rulemaking Advisory Committee (ARAC) a new task to identify and develop recommendations on additional requirements for low speed alerting. Phase 1 of the task addresses new standards for transport category airplanes. Phase 2 of the task addresses possible retrofit standards for existing transport category airplanes. This notice is to inform the public that the ARAC working group has completed activity for Phase 1 of the task and will begin activity for Phase 2.

FOR FURTHER INFORMATION CONTACT: Joe Jacobsen, Airplane & Flight Crew Interface Branch, ANM-111, Transport Airplane Directorate, Federal Aviation Administration, 1601 Lind Ave, SW., Renton, Washington 98057; telephone (425) 227-2011, facsimile (425) 227-1149; e-mail joe.jacobsen@faa.gov.

SUPPLEMENTARY INFORMATION:

Background

The FAA established ARAC to provide advice and recommendations to the FAA Administrator on the FAA's rulemaking activities with respect to aviation-related issues. With respect to low speed alerting, the FAA previously revised regulations in the area of flight guidance (autopilot) and performance and handling qualities in icing conditions to improve transport airplane standards for low speed protection (in the case of icing, stall warning standards were enhanced). However, as a result of several recent loss-of-control accidents and incidents, the FAA has identified a need for additional low speed safeguards, in addition to the regulatory actions that have already been taken. The committee addressed the Phase 1 task—new part 25 standards under the existing Avionics System Harmonization Working Group within the Transport Airplane and Engine Issues Group. (The FAA published a notice of Phase 1 task assignment in the Federal Register (75 FR 16902) on April 2, 2010.) The committee will also address the Phase 2 task—parts 25/121/129 retrofit standards under the existing Avionics Systems Harmonization Working Group within the Transport Airplane and Engine Issues Group.

The Task

ARAC was initially tasked with providing information that will be used to develop standards and guidance material for low speed alerting systems. This information may result in standards that complement existing stall warning requirements. The working group provided a report that addressed several low speed alerting technical questions, relative to new aircraft designs (Phase 1 task—new part 25 standards), and provided the rationale for their responses.

Since the Phase 1 task is complete, ARAC is now tasked with providing information that will be used to develop possible retrofit standards and guidance material for low speed alerting systems. This information may result in standards that complement existing stall warning requirements. The working group will also be expected to provide a report that addresses the following low speed alerting technical questions, relative to existing aircraft designs (Phase 2 task—part 25/121/129 retrofit standards), and provide the rationale for their responses. If the recommendation for retrofit is the same as for new designs, the working group should state the rationale and not repeat the information previously reported. If there is disagreement within the working group, those items should be documented, including the rationale from each party and the reasons for the disagreement.

• How timely is the airplane in alerting the crew of flight below the intended operating speed?

• How timely relative to stall warning?

• Is alerting instantly recognizable, clear, and unambiguous to the flightcrew?

• How are nuisance alerts minimized?

• Does the alerting operate under all operating conditions, configurations, and phases of flight, including icing conditions?

• Does the alerting operate during manual and autoflight?

• After reviewing airworthiness, safety, cost, benefit, and other relevant factors, including recent certification and fleet experience, are there any additional considerations that should be taken into account?

• Is coordination necessary with other harmonization working groups (e.g., Human Factors, Flight Test)? (If yes, coordinate and report on that coordination.)

• If improvements are needed for low speed alerting in the existing fleet, should the FAA adopt a design approval holder (part 26) requirement to mandate development of design changes, or would an operational rule be sufficient? In responding, the working group should address the factors set forth in “FAA Policy Statement: Safety—A Shared Responsibility—New Direction for Addressing Airworthiness Issues for Transport Airplanes” (70 FR 40166, July 12, 2005). The ARAC working group should provide information that could lead to standards for low speed alerting that can be satisfied with practical design approaches.

Schedule

The required completion date for Phase 2 of the task is 15 months after the FAA publishes this notice in the Federal Register.

ARAC Acceptance of Task

ARAC accepted the task and assigned it to the existing Avionics Systems Harmonization Working Group in the Transport Airplane and Engine Issue Area. The working group serves as support to ARAC and assists in the analysis of assigned tasks. ARAC must review and approve the working group's recommendations. If ARAC accepts the working group's recommendations, it will forward them to the FAA.

Working Group Activity

The Avionics Systems Harmonization Working Group must comply with the procedures adopted by ARAC. As part of the procedures, the working group must:

1. Prepare a work plan on how to complete the task, including the rationale for this plan. Present the plan for consideration to the Transport Airplane and Engine Issues Group following publication of this notice.

2. Give a detailed conceptual presentation of the proposed recommendations prior to proceeding with the work stated in item 3 below.

3. Draft the appropriate documents and required analyses and/or any other related materials or documents.

4. Provide a status report at each meeting of the ARAC held to consider Transport Airplane and Engine Issues.

Participation in the Working Group

The Avionics Systems Harmonization Working Group is composed of technical experts having an interest in the assigned task. We recommend the existing working group be expanded to include individuals involved in current fleet operations so there is appropriate representation for the Phase 2 task. A working group member need not be a representative or a member of the full committee.

If you have expertise in the subject matter and wish to become a member of the working group, write to the person listed under the caption FOR FURTHER INFORMATION CONTACT expressing that desire. Describe your interest in the task and state the expertise you would bring to the working group. We must receive all requests by March 17, 2011 for the meeting scheduled to start from March 15 to 17, 2011, located at the Cessna Conference Center, 6711 West 31st Street South, Wichita, Kansas 67215. The assistant chair, the assistant executive director, and the working group co-chairs will review the requests and advise you whether or not your request is approved.

If you are chosen for membership on the working group, you must represent your aviation community segment and actively participate in the working group by attending all meetings and providing written comments when requested to do so. You must devote the resources necessary to support the working group in meeting any assigned deadlines. You must keep your management chain and those you may represent advised of working group activities and decisions to ensure that the proposed technical solutions do not conflict with your sponsoring organization's position when the subject being negotiated is presented to ARAC for approval. Once the working group has begun deliberations, members will not be added or substituted without the approval of the assistant chair, the assistant executive director, and the working group co-chairs.

The Secretary of Transportation determined that the formation and use of the ARAC is necessary and in the public interest in connection with the performance of duties imposed on the FAA by law. Meetings of the ARAC are open to the public. Meetings of the Avionics Systems Harmonization Working Group will not be open to the public, except to the extent individuals with an interest and expertise are selected to participate. The FAA will make no public announcement of working group meetings.

Issued in Washington, DC, on February 28, 2011.
Pamela Hamilton-Powell,
Executive Director, Aviation Rulemaking Advisory Committee.

[FR Doc. 2011-4761 Filed 3-2-11; 8:45 am]

BILLING CODE 4910-13-P